DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of February 13, 2012 through February 17, 2012.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) the public agency has acquired from a foreign country services like or directly competitive with services which are supplied by such agency; and

(3) the acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
81,186 | Liberty Denim, LLC, Her Services | Liberty, SC | February 13, 2010.
81,231 | Autodie, LLC, A Subsidiary of Chrysler, LLC | Grand Rapids, MI | March 4, 2012.
81,240 | Snokist Growers, ADD Staffing and Ace, Inc. | Yakima, WA | February 13, 2010.

The following certifications have been issued. The requirements of Section 222(a)(2)(B) (shift in production or services) of the Trade Act have been met.

TA-W No. | Subject firm | Location | Impact date
81,055 | Litton Loan Servicing (Ocwen), A Subsidiary Of Ocwen Financial Corp | Irving, TX | February 13, 2010.
81,055A | Litton Loan Servicing (Ocwen) | Houston, TX | February 13, 2010.
81,158 | Hartford Financial Services Group, Inc., Corporate/Finance/Controllers | Hartford, CT | February 13, 2010.
81,213 | American Express Travel Related Services Company, Inc., The Account Security Group, American Express Company | Phoenix, AZ | February 13, 2010.
81,215 | Apex Tool Group, LLC, Including On Site Leased Workers from Thompson Industrial | Sumter, SC | January 27, 2012.
81,215A | Leased Workers from Aerotek, Working on Site at Apex Tool Group, LLC, Apex Tool Group-Sumter Division | Sumter, SC | February 13, 2010.
81,219 | Deloitte Recap: Biotech Consulting and BD Software Division, Leased Workers from: Syndicate Bleu, 24Seven talent, Apple One | San Francisco, CA | February 13, 2010.
81,226 | Duro Textiles, LLC, Duro Finishing and Duro Printers Plants, Patriarch Partners | Fall River, MA | November 10, 2011.
81,226A | LT Staffing and Able Associates, Duro Textiles, LLC | Fall River, MA | February 13, 2010.
81,252 | Littelfuse, Inc., Corporate Resources, Aerotek, Dysis and Tek | Chicago, IL | February 13, 2010.
81,254 | BT North America, Network Operations, Leased workers from Manpower and Tech Mahindra | Atlanta, GA | February 13, 2010.
81,309 | Hanesbrands, Inc., IH Services, Security Forces, Inc. and Workforce Carolina | Winston-Salem, NC | January 20, 2011.
81,263 | Chartis Global Services, Inc., Regional Service Center, Chartis, Inc. | Houston, TX | February 13, 2010.
81,272 | Electro Scientific Industries, Inc. (ESI), including on-site workers from ProSource and Express | Portland, OR | January 24, 2011.
81,275 | Cooper Bussmann, LLC, Transportation division, wages reported under Martek, leased workers Adecco, Tops Staffing, Alltek Staffing and Resource Group | Gibsonia, PA | January 30, 2011.
81,277 | GCC RioGrande, Inc., Accounts Payable Department, Subsidiary of GCC of America, Leased Workers: Accountemps | Tijeras, NM | February 13, 2010.
81,277A | GCC RioGrande, Inc., Accounts Payable Department, Subsidiary of GCC of America. Leased Workers: Accountemps | Pueblo, CO | February 13, 2010.
| Hartford Financial Services Group, Inc., Corporate/EIT/Consumer | Simsbury, CT | February 7, 2011.

The following certifications have been issued. The requirements of Section 222(c) (supplier to a firm whose workers are certified eligible to apply for TAA) of the Trade Act have been met.

TA-W No. | Subject firm | Location | Impact date
81,067 | Johnson Controls, Inc., Valley Staffing | Hudson, WI | February 13, 2010.
81,117 | Sykes Enterprises, Incorporated, Their Homes In Colorado | Sterling, CO | February 13, 2010.

The following certifications have been issued. The requirements of Section 222(c) (downstream producer for a firm whose workers are certified eligible to apply for TAA) of the Trade Act have been met.

TA-W No. | Subject firm | Location | Impact date
80,482 | Weather Shield, Inc. | Park Falls, WI | September 10, 2010

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
81,300 | Daxin Pacific, Inc. | Seattle, WA |

The investigation revealed that the criteria under paragraphs(a)(2)(A) (increased imports) and (a)(2)(B) (shift in production or services to a foreign country) of section 222 have not been met.

TA-W No. | Subject firm | Location | Impact date
80,454 | TMI Forest Products, Crane Creek Division, Including On Site Leased Workers: Express Professional Employment | Morton, WA |
81,303 | K&T Switching Services, Inc. Including Wages Reported Through Complete Personnel Logistics, Inc., Leased Workers: Kelly Services, Prodriver, Adecco, Transforce | Dearborn, MI |

I hereby certify that the aforementioned determinations were issued during the period of February 13, 2012 through February 17, 2012. These determinations are available on the Department's Web site tradeact/taa/taa search form.cfm under the searchable listing of determinations or by calling the Office of Trade Adjustment Assistance toll-free at 888-365-6822.

Dated: February 23, 2012.
Michael W. Jaffe,
Certifying Officer, Office of Trade Adjustment Assistance.

[FR Doc. 2012-5397 Filed 3-5-12; 8:45 am]

BILLING CODE 4510-FN-P